DEPARTMENT OF HEALTH AND HUMAN SERVICES

Health Resources and Services Administration

Solicitation of Nominations for Membership to Serve on the Advisory Committee on Infant Mortality

AGENCY: Health Resources and Services Administration (HRSA), Department of Health and Human Services (HHS).

ACTION: Request for nominations.

SUMMARY: HRSA is seeking nominations of qualified candidates for consideration for appointment as members of the Advisory Committee on Infant Mortality (ACIM). ACIM provides advice to the Secretary of HHS on Department activities and programs directed at reducing infant mortality and improving the health status of pregnant women and infants.

DATES: Written nominations for membership on the Committee must be received on or before Tuesday, June 26, 2018.

ADDRESSES: Nomination packages must be submitted electronically as email attachments to Dr. David de la Cruz, the Committee's Designated Federal Official, at dcruz@hrsa.gov.

FOR FURTHER INFORMATION CONTACT: David de la Cruz, Ph.D., MPH. Address: Maternal and Child Health Bureau, HRSA, 5600 Fishers Lane, Room 18N25, Rockville, MD 20857; phone number: (301) 443-0543; email: dcruz@hrsa.gov. A copy of the current ACIM charter, membership, and reports are available on the ACIM website, https://www.hrsa.gov/advisory-committees/Infant-Mortality/index.html.

SUPPLEMENTARY INFORMATION: ACIM provides a public and private partnership at the highest level to provide guidance and helps focus attention on the policies and resources required to address the reduction of infant mortality and perinatal health disparities. ACIM also provides advice on how best to coordinate the myriad of federal, state, local, and private programs and efforts designed to deal with the health and social problems affecting infant mortality.

The Committee advises the Secretary of HHS and the Administrator of HRSA on HHS programs and activities related to infant mortality, including implementation of the Healthy Start program and infant mortality objectives from Healthy People 2020: National Health Promotion and Disease Prevention Objectives.

Nominations: HRSA is requesting nominations for voting members of ACIM to include representatives of all qualified individuals within the areas of subject matter expertise noted above. Interested applicants may self-nominate or be nominated by another individual or organization. Nominees must reside in the United States.

Individuals selected for appointment to the Committee will be invited to serve for up to 4 years. Members are appointed as special government employees and receive a stipend and reimbursement for per diem and travel expenses incurred for attending meetings and/or conducting other business on behalf of the Committee, as authorized by Section 5 U.S.C. 5703 for persons employed intermittently in government service.

To evaluate possible conflicts of interest, individuals selected for consideration for appointment will be required to provide detailed information regarding their financial holdings, consultancies, and research grants or contracts. The selected candidates must fill out the U.S. Office of Government Ethics (OGE) Confidential Financial Disclosure Report, OGE Form 450. Disclosure of this information is necessary to determine if the selected candidate is involved in any activity that may pose a potential conflict with their official duties as a member of the Committee.

A nomination package should include the following information for each nominee: (1) The name and affiliation of the nominee and a clear statement regarding the basis for the nomination, including the area(s) of expertise that may qualify a nominee for service on the Committee, as described above; (2) confirmation the nominee is willing to serve as a member of the Committee; (3) the nominee's contact information (please include home address, work address, daytime telephone number, and an email address); and (4) a current copy of the nominee's curriculum vitae. Nomination packages may be submitted directly by the individual being nominated or by the person/organization recommending the candidate.

HHS strives to ensure a balance of ACIM membership in terms of points of view presented and the committee's function. Therefore, we encourage nominations of qualified candidates from these groups and endeavor to make appointments to ACIM without discrimination on the basis of age, race, ethnicity, gender, sexual orientation, disability, and cultural, religious, or socioeconomic status.

Authority

ACIM was established under provisions of section 222 of the Public Health Service Act (42 U.S.C. 217a), as amended. The Committee is governed by provisions of the Federal Advisory Committee Act, as amended (5 U.S.C. App.), as well as 41 CFR part 102-3, which set forth standards for the formation and use of Advisory Committees.

Amy P. McNulty,
Acting Director, Division of the Executive Secretariat.

[FR Doc. 2018-11465 Filed 5-25-18; 8:45 am]

BILLING CODE 4165-15-P